DEPARTMENT OF DEFENSE

GENERAL SERVICES ADMINISTRATION

NATIONAL AERONAUTICS AND SPACE ADMINISTRATION

48 CFR Parts 1, 5, 8, 9, 12, 13, 15, 19, 22, 25, 30, 50, and 52

[FAC 2020-06; FAR Case 2018-007; Item II; Docket No. FAR-2018-0007; Sequence No. 1]

RIN 9000-AN67

Federal Acquisition Regulation: Applicability of Inflation Adjustments of Acquisition-Related Thresholds

Correction

In rule document 2020-07109 appearing on pages 27088-27097 in the issue of May 6, 2020, make the following correction:

52.212-5 [Corrected]

On page 27092, in the third column, Instruction 40 e. for 52.212-5, should read as set forth below:

e. Revising paragraphs (e)(1)(viii) through (x) and the first sentence of paragraph (e)(1)(xxi); and

[FR Doc. C1-2020-07109 Filed 5-15-20; 8:45 am]

BILLING CODE 1301-00-D